ENVIRONMENTAL PROTECTION AGENCY

[FRL-8964-7]

Notice of Availability of Final NPDES General Permits MAG640000 and NHG640000 for Discharges From Potable Water Treatment Facilities in the Commonwealth of Massachusetts (Including Both Commonwealth and Indian Country Lands) and the State of New Hampshire: The Potable Water Treatment Facility General Permit (PWTF GP)

AGENCY: Environmental Protection Agency (EPA).

ACTION: Notice of Availability of Final NPDES General Permits MAG640000 and NHG640000.

SUMMARY: The Director of the Office of Ecosystem Protection, EPA-New England, is issuing a notice of availability of the final National Pollutant Discharge Elimination System (NPDES) general permits for potable water treatment facility (PWTF) discharges to certain waters of the Commonwealth of Massachusetts (included both Commonwealth and Indian country lands) and the State of New Hampshire. These General Permits replace the previous PWTF GP, which expired on November 15, 2005.

The final PWTF GP establishes Notice of Intent (NOI) requirements, effluent limitations, standards, prohibitions, and management practices for facilities with discharges from potable water treatment facilities. Owners and/or operators of these facilities, including those currently authorized to discharge under the expired General Permit, will be required to submit an NOI to be covered by the PWTF GP to both EPA-New England and the appropriate state agency. After EPA and the State have reviewed the NOI, the facility will receive a written notification from EPA of permit coverage and authorization to discharge under the General Permit.

DATES: The general permits shall be effective on the date of signature and will expire at midnight, five (5) years from the last day of the month preceding the effective date.

ADDRESSES: The required notification information to obtain permit coverage is provided for in the general permits. This information shall be submitted to both EPA and the appropriate State. Notification information may be sent via USPS, e-mail or fax to EPA at EPA-Region 1, Office of Ecosystem Protection (CMU), One Congress Street, Boston, Massachusetts 02114-2023; e-mail address PWTF.GeneralPermit@EPA.GOV; or fax number (617) 918-0505. Notification information shall be submitted to the appropriate State agency at the addresses listed in Appendix VI of the general permits.

FOR FURTHER INFORMATION CONTACT: Additional information concerning the final PWTF GP may be obtained between the hours of 9 a.m. and 5 p.m. Monday through Friday, excluding holidays, from Damien Houlihan at Houlihan.Damien@epa.gov or (617) 918-1586. The general permits may be viewed over the Internet at the EPA Web site http://www.epa.gov/region1/npdes/pwtfgp.html. To obtain a paper copy of the general permits, please contact Mr. Houlihan using the contact information provided above. A reasonable fee may be charged for copying requests.

Dated: September 24, 2009.
Ira Leighton,
Acting Regional Administrator, Region 1.

[FR Doc. E9-23791 Filed 10-1-09; 8:45 am]

BILLING CODE 6560-50-P